DEPARTMENT OF THE INTERIOR

Fish and Wildlife Service

[FWS-R7-FAC-2023-N094; FXFR133407AFWFP-245-FF07CAAN00; OMB Control Number 1018-New]

Agency Information Collection Activities; Submission to the Office of Management and Budget; Yukon River Watershed Ecosystem Action Plan

AGENCY: Fish and Wildlife Service, Interior.

ACTION: Notice of information collection; request for comment.

SUMMARY: In accordance with the Paperwork Reduction Act of 1995, we, the U.S. Fish and Wildlife Service (Service), are proposing a new information collection.

DATES: Interested persons are invited to submit comments on or before April 22, 2024.

ADDRESSES: Written comments and recommendations for the proposed information collection request (ICR) should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018—Yukon River WEAP” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On August 17, 2023, we published in the Federal Register (88 FR 56044) a notice of our intent to request that OMB approve this information collection. In that notice, we solicited comments for 60 days, ending on October 16, 2023. In an effort to increase public awareness of, and participation in, our public commenting processes associated with information collection requests, the Service also published the Federal Register notice on Regulations.gov (Docket No. FWS-R7-FAC-2023-0094) to provide the public with an additional method to submit comments (in addition to the typical Info_Coll@fws.gov email and U.S. mail submission methods). We received one anonymous comment in response to that notice which did not address the information collection requirements. Therefore, no response is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Under the authority of the Fish and Wildlife Coordination Act (16 U.S.C. 661-666), the Service cooperates with Federal, State, and public or private agencies and organizations in the development, protection, rearing, and stocking of all species of fish and wildlife, resources thereof, and their habitat, in controlling losses of the same from disease or other causes, in minimizing damages from overabundant species. In order to accomplish this purpose, the Service has the authority to conduct surveys and investigations of the wildlife of the public domain, including lands and waters or interests therein acquired or controlled by any agency of the United States. This work will focus on Yukon River Pacific Salmon, which is an interjurisdictional fish and thus a Federal trust species of the public domain.

The Yukon River runs about 2,000 miles from its headwaters in British Columbia to the Bering Sea, flowing through dozens of communities and an international border along the way. Wild native salmon have been a mainstay of the diet of local people since time immemorial and are vital to supporting the health, culture, and economy of rural communities in the Yukon Watershed today. Salmon stock declines resulting in subsistence fishery closures are therefore of grave concern; habitat alteration, climate change, and fishing are likely contributing factors. The goal of this project is to prepare a watershed ecosystem action plan (WEAP) that is directed by local communities, informed by traditional ecological knowledge (TEK), reviewed by experts, and catalyzes meaningful action.

The people of the Yukon River rely heavily on the watershed's natural resources to feed their families and support their culture. The Yukon River Drainage Fisheries Association (YRDFA) will consult directly with Yukon River watershed communities and incorporate TEK to complete a comprehensive assessment and prioritization of habitat restoration needs, to be documented in a watershed-wide action plan. This project will employ residents of the rural Yukon villages to carry out this effort to the greatest extent possible. This project will take place over a 5-year time period and will result in a WEAP that can be used to understand and develop actions to address the ongoing crisis of salmon declines.

The YRDFA plans to kick this project off by consulting with local communities and TEK. On-the-ground assessments will also be completed by local community members. The information collected will be used to draft an action plan that prioritizes the known threats to the watershed. The WEAP will identify specific restoration projects that are likely to improve the health of the watershed. The Service's Habitat Restoration Program will provide technical support to create scopes of work and cost estimates for the highest priority projects that are identified by the WEAP. The identification of specific, high-priority projects with scoping and cost documents will allow project partners to work with landowners to pursue funding from both public and private sources to improve the health of the watershed.

We developed these surveys in consultation with the Yukon River Drainage Fisheries Association, an organization created to conserve Yukon salmon runs by giving a voice to the Alaska Native people who have managed the resource for thousands of years; the Yukon River Inter-Tribal Watershed Council, an Indigenous grassroots non-profit organization, consisting of 73 First Nations and Tribes, dedicated to the protection and preservation of the Yukon River watershed; and the State of Alaska. This survey proposes to collect the following information from community members who voluntarily attend community meetings and Elders within the Alaska Native communities, to address growing concerns about the health of the Yukon River watershed and to generate a historical timeline of observed changes that affect Yukon River salmon:

1. Community meeting surveys will ask for respondents to provide their top three concerns for the health of the watershed, to identify community organizations who are working on these concerns, and to provide locations for their concerns, if appropriate. This information will be used to identify actions that can be taken to improve the health of the habitats in the watershed which support Pacific Salmon and to partner with communities to address their highest priority needs.

2. Using a qualitative semi-structured interview protocol, we will ask respondents general questions about their background and fishing experiences, followed by questions about their observations of changes in the environment and in the salmon populations. The protocol will continue with questions about their ways of knowing when the salmon will arrive, how to predict salmon health and run strength, and any concerns they may have. This information will be used to generate a historical timeline of observed changes that may affect salmon on the Yukon River.

In addition to participating in the interviews, respondents are also requested to complete a consent form. The consent form provides the respondent with the name and contact number for the project leads and requests personally identifiable information (name, mailing address, and phone number). This informed consent provides basic information about the project, which includes the purpose of the research, the funder, information about what we will do with the results, and the fact that participation in the interview is voluntary and they can participate anonymously.

The surveys will be conducted for a 5-year period, beginning in 2024. This project is funded by the Service, the State of Alaska, and the National Oceanic and Atmospheric Association. The information produced through these interviews will be used to provide a holistic and long-term understanding of Yukon River salmon, their environment, and threats to their sustainability.

Title of Collection: Yukon River Watershed Ecosystem Action Plan.

OMB Control Number: 1018-New.

Form Number: None.

Type of Review: New.

Respondents/Affected Public: Individuals/households.

Total Estimated Number of Annual Respondents: 420 (280 respondents for the Watershed Community Survey and 140 respondents for the Yukon Watershed TEK Interviews.

Total Estimated Number of Annual Responses: 420.

Estimated Completion Time per Response: 15 minutes for the Yukon Watershed Community Survey and 1 hour for the Yukon Watershed TEK Interviews.

Total Estimated Number of Annual Burden Hours: 210.

Respondent's Obligation: Voluntary.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2024-05994 Filed 3-20-24; 8:45 am]

BILLING CODE 4333-15-P